DEPARTMENT OF HEALTH AND HUMAN SERVICES

Indian Health Service; Reimbursement Rates for Calendar Year 2012 Correction

AGENCY: Indian Health Service, HHS.

ACTION: Notice; correction.

SUMMARY: The Indian Health Service published a document in the Federal Register on June 6, 2012, concerning rates for inpatient and outpatient medical care provided by Indian Health Service facilities for Calendar Year 2012 for Medicare and Medicaid beneficiaries of other Federal Programs. The document contained five incorrect rates.

FOR FURTHER INFORMATION CONTACT: Mr. Carl Harper, Director, Office of Resource Access and Partnerships, Indian Health Service, 801 Thompson Avenue, Suite 360, Rockville, MD 20852, Telephone 301-443-1553. (This is not a toll-free number.)

Corrections

In the Federal Register of June 6, 2012, in FR Doc. 2012-13627, on page 33470, in the second column, under the heading “Inpatient Hospital Per Diem Rate (Excludes Physician/Practitioner Services)” “Lower 48 States: $2,169. Alaska: $2,350.” should read “Lower 48 States: $2,165. Alaska: $2,347.” Under the heading, “Outpatient Per Visit Rate (Excluding Medicare) “Lower 48 States: $317.” should read “Lower 48 States: $316.” Under the heading, “Medicare Part B Inpatient Ancillary Per Diem Rate” “Lower 48 States: $477. Alaska: $811.” should read “Lower 48 States: $476. Alaska: $810.”

Dated: June 8, 2012.
Randy Grinnell,
Deputy Director, Indian Health Service.

[FR Doc. 2012-14896 Filed 6-18-12; 8:45 am]

BILLING CODE 4165-16-P